DEPARTMENT OF LABOR

Employment and Training Administration

[TA-W-58,770]

Thomasville Furniture Ind.; Plant #5; Conover, NC; Notice of Revised Determination on Reconsideration

By letter dated April 4, 2006, a petitioner requested administrative reconsideration regarding the Department's Negative Determination Regarding Eligibility to Apply for Worker Adjustment Assistance, applicable to the workers of the subject firm.

The initial investigation resulted in a negative determination signed on March 10, 2006, was based on the finding that sales and production at the subject facility increased during the relevant time period and that job losses at the subject firm were not attributed to increased imports or a shift of production of upholstered furniture to a foreign source. The denial notice was published in the Federal Register on April 4, 2006 (71 FR 16834).

To support the request for reconsideration, the petitioner supplied additional information regarding production at the subject facility and company imports of like or directly competitive products with those produced at the subject firm.

The review of the case revealed that sales at the subject firm decreased from 2004 to 2005. Upon further contact with the subject firm's company official, it was revealed that the subject firm decreased domestic production of upholstered furniture while increasing its reliance on imports of upholstered furniture during the relevant time period.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of section 246 have been met.

A significant number of workers at the firm are age 50 or over and possess skills that are not easily transferable. Competitive conditions within the industry are adverse.

Conclusion

After careful review of the additional facts obtained on reconsideration, I conclude that increased imports of articles like or directly competitive with those produced at Thomasville Furniture Ind., Plant #5, Conover, North Carolina, contributed importantly to the declines in sales or production and to the total or partial separation of workers at the subject firm. In accordance with the provisions of the Act, I make the following certification:

All workers of Thomasville Furniture Ind., Plant #5, Conover, North Carolina, who became totally or partially separated from employment on or after February 1, 2005 through two years from the date of this certification, are eligible to apply for adjustment assistance under section 223 of the Trade Act of 1974, and are eligible to apply for alternative trade adjustment assistance under section 246 of the Trade Act of 1974.

Signed in Washington, DC, this 28th day of April 2006.
Elliott S. Kushner,
Certifying Officer, Division of Trade Adjustment Assistance.

[FR Doc. 06-4417 Filed 5-10-06; 8:45 am]

BILLING CODE 4510-30-P